ENVIRONMENTAL PROTECTION AGENCY

[EPA-HQ-OPP-2022-0490; FRL-9966-01-OCSPP]

Petition To Revoke Tolerances and Cancel Registrations for Certain Organophosphate Uses; Notice of Filing

AGENCY: Environmental Protection Agency (EPA).

ACTION: Notice.

SUMMARY: EPA is seeking public comment on a November 18, 2021 petition filed by the United Farm Workers, United Farm Workers Foundation, Earthjustice, California Rural Legal Assistance Foundation, Farmworker Association of Florida, Farmworker Justice, GreenLatinos, Labor Council for Latin American Advancement, League of United Latin American Citizens, Learning Disabilities Association of America, Pesticide Action Network North America, and Pineros y Campesinos Unidos del Noroeste (the Earthjustice Petition). The petitioners request that the Agency revoke all tolerances and cancel all associated registrations for food uses of the following organophosphate pesticides (OPs): Acephate, Densulide, Chlorethoxyfos, Chlorpyrifos-methyl, Diazinon, Dichlorvos, Dicrotophos, Dimethoate, Ethoprop, Malathion, Naled, Phorate, Phosmet, Terbufos, and Tribufos. In addition, the petitioners request that the Agency take actions to protect workers from potential risks of exposure to OPs, update its risk assessments to include a protective regulatory endpoint for children, and complete registration review on the OP class of chemicals by October 1, 2022. The petition was submitted pursuant to the Federal Food, Drug and Cosmetic Act (FFDCA), the Administrative Procedure Act (APA), and the First Amendment.

DATES: Comments must be received on or before August 11, 2022.

ADDRESSES: Submit your comments, identified by docket identification (ID) number EPA-HQ-OPP-2022-0490, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Anna Romanovsky, Pesticide Re-Evaluation Division (7508P), Office of Pesticide Programs, Environmental Protection Agency, 1200 Pennsylvania Ave. NW, Washington, DC 20460-0001; telephone number: (202) 566-2271; email address: romanovsky.anna@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit CBI to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets#tips.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

B. How can I get copies of this document and other related information?

A copy of the Earthjustice Petition, Petition to Revoke Food Tolerances and Cancel Registrations for Harmful Organophosphate Uses, is available in the docket under Docket ID No. EPA-HQ-OPP-2022-0490.

II. What action is the Agency taking?

EPA seeks public comment during the next 30 days on a petition dated November 18, 2021 (available in docket number EPA-HQ-OPP-2022-0490 at https://www.regulations.gov) from the United Farm Workers, United Farm Workers Foundation, Earthjustice, California Rural Legal Assistance Foundation, Farmworker Association of Florida, Farmworker Justice, GreenLatinos, Labor Council for Latin American Advancement, League of United Latin American Citizens, Learning Disabilities Association of America, Pesticide Action Network North America, and Pineros y Campesinos Unidos del Noroeste. The petitioners request that the Agency revoke all tolerances and cancel all associated registrations for food uses of OPs that its risk assessments determine to be unsafe, update its risk assessments to use neurodevelopmental toxicity instead of 10% red blood cell acetylcholinesterase inhibition as a regulatory endpoint that is protective for children, and cancel registrations for uses that have unreasonable adverse effects on workers. The petitioners further request that the Agency accomplish the foregoing no later than October 1, 2022. The petition was submitted pursuant to the Federal Food, Drug and Cosmetic Act (FFDCA), 21 U.S.C. 346a(d), the Administrative Procedure Act (APA), 5 U.S.C. 551 et seq., and the First Amendment.

The OPs are a group of pesticides with a broad range of uses and are one of the most widely used class of pesticides in U.S. agriculture. The OPs are a class of chemicals with a common mechanism of toxicity: inhibition of the acetylcholinesterase (AChE) enzyme. There are currently 20 OPs going through registration review. EPA's risk assessments and other registration review materials for the OPs included in the Earthjustice Petition are contained in the dockets for each of the respective registration review cases, as listed here:

• Acephate (EPA-HQ-OPP-2008-0915).

• Bensulide (EPA-HQ-OPP-2008-0022).

• Chlorethoxyfos (EPA-HQ-OPP-2008-0843).

• Chlorpyrifos-methyl (EPA-HQ-OPP-2010-0119).

• Diazinon (EPA-HQ-OPP-2008-0351).

• Dichlorvos (EPA-HQ-OPP-2009-0209).

• Dicrotophos (EPA-HQ-OPP-2008-0440).

• Dimethoate (EPA-HQ-OPP-2009-0059).

• Ethoprop (EPA-HQ-OPP-2008-0560).

• Malathion (EPA-HQ-OPP-2009-0317).

• Naled (EPA-HQ-OPP-2009-0053).

• Phorate (EPA-HQ-OPP-2007-0674).

• Phosmet (EPA-HQ-OPP-2009-0316).

• Terbufos (EPA-HQ-OPP-2008-0119).

• Tribufos (EPA-HQ-OPP-2008-0883).

On December 2, 2021, the Agency released an updated schedule for registration review for the cases for which interim registration review decisions will be issued after October 2022. The schedule can be found on the EPA website at https://www.epa.gov/pesticide-reevaluation/upcoming-registration-review-actions.

Authority: 21 U.S.C. 346a.

Dated: July 6, 2022.
Mary Reaves,
Director, Pesticide Re-Evaluation Division, Office of Pesticide Programs.

[FR Doc. 2022-14795 Filed 7-11-22; 8:45 am]

BILLING CODE 6560-50-P